DEPARTMENT OF ENERGY

Federal Energy Regulatory Commission

[Docket No. AD02-21-000, et al.]

Notice of Hydro Licensing Status Workshop 2002

October 11, 2002.

In the matter of 2069-003, 10100-002, 2283-005, 2205-006,11475-000 and 11478-000, 2306-008, 176-018, 2474-004, 2539-003, 2616-004, 2612-005, 1975-014, 2061-004, 2777-007 and 2778-005, 11495-000, 11563-002, 1982-017, 1354-005 and 2687-014, 1927-008 and 2342-005, 2493-006, 11472-000 and 11566-003, 10311-002, 10942-001, 1932-004, 1933-010, 1934-010 and 2017-011, 1864-005, 2019-017 and 2699-001, 10865-001, 10416-003; Hydro Licensing Status Workshop 2002, Arizona Public Service, Company; Cascade River Hydro, Central Maine Power Company, Central Vermont Public Service Corporation, Citizens Utilities Company, City of Escondido, California, Erie Boulevard Hydropower, L.P., FPL Energy Maine, LLC Idaho Power Company, Nooksack River Hydro, Inc. Northern California Power Agency Northern States Power Company Pacific Gas and Electric Company PacifiCorp Puget Sound Energy, Inc. Ridgewood Maine Hydro Partners, L.P. Skagit River Hydro Skykomish River Hydro, Inc. Southern California Edison Company Upper Peninsula Power Company Utica Power Authority Warm Creek Hydro, Inc. Washington Hydro Development Company

A one-day, Commissioner-led workshop will be held on November 8, 2002, beginning at 10:00 a.m., in the Commission Meeting Room at the Federal Energy Regulatory Commission, 888 First Street, NE., Washington, DC The workshop will focus on the above-listed 37 pending license applications filed at the Commission. The workshop is open to the public and all interested persons are invited to attend and participate.

The goals of the workshop are to: (1) Review and discuss the pending license applications; (2) identify unresolved issues; (3) determine next steps; (4) agree on who will take the next step; and (5) focus on solutions. The workshop will concentrate on identifying the unresolved issues associated with each project, and determining the best course of action to resolve or remove obstacles to final action on each pending license application.

A transcript of the discussions will be placed in the public record for Docket No. AD02-21-000 and in the record for each of the pending license applications.

Filing Requirements for Paper and Electronic Filings

Comments, papers, or other documents related to this proceeding may be filed in paper format or electronically. Those filing electronically do not need to make a paper filing.

For paper filings, the original and 8 copies of the comments should be submitted to the Office of the Secretary, Federal Energy Regulatory Commission, 888 First Street, NE, Washington, DC 20426. Paper filings should, at the top of the first page, refer to Docket No. AD02-21-000 and reference the specific project name(s) and project number(s) that the comments concern. The deadline to file comments is December 9, 2002.

Comments may be filed electronically via the Internet in lieu of paper. The Commission strongly encourages electronic filings. Documents filed electronically via the Internet must be prepared in WordPerfect, MS Word, Portable Document Format, or ASCII format. To file the document, access the Commission's Web site at http://www.ferc.gov, click on “e-Filing” and then follow the instructions on the screen. First-time users will have to establish a user name and password. The Commission will send an automatic acknowledgment to the sender's e-mail address upon receipt of comments. User assistance for electronic filing is available at 202-502-8258 or by e-mail to efiling@ferc.gov. Comments should not be submitted to the e-mail address.

All comments will be placed in the Commission's public files and will be available for inspection in the Commission's Public Reference Room at 888 First Street, NE, Washington DC 20426, during regular business hours. Additionally, all comments may be viewed on the Commission's Web site at http://www.ferc.gov using the “FERRIS” link. For assistance, call 202-502-8371, or toll free 1-866-208-3676, or for TTY 202-502-8659, or by e-mail to FERCONLINESUPPORT@ferc.gov.

Opportunities for Listening, Participating, and Viewing the Workshop Offsite and Obtaining a Transcript

The workshop will be transcribed. Those interested in transcripts immediately for a fee should contact Ace-Federal Reporters, Inc. at 202-347-3700, or 1-800-336-6646. They will be available for free to the public on the Commission's FERRIS system two weeks after the workshop.

The Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Anyone wishing to participate via teleconference should call or E-mail Susan Tseng 202-502-6065 or susan.tseng@ferc.gov, by November 1, 2002, to receive the toll free telephone number to join the teleconference.

Anyone interested in participating in the workshop via video teleconference from one of the Commission's regional offices should call or E-mail the following staff, by November 1, 2002, to make arrangements. Seating capacity is limited.

Regional office | Staff contact | Telephone No. | E-mail address
Atlanta | Charles Wagner | 770-452-3765 | charles.wagner@ferc.gov
Chicago | Dave Simon | 312-353-6701 | david.simon@ferc.gov
New York | Chuck Goggins | 212-273-5910 | charles.goggins@ferc.gov
Portland | Pat Regan | 503-944-6741 | patrick.regan@ferc.gov
San Francisco | John Wiegel | 415-369-3336 | john.wiegel@ferc.gov

By November 1, 2002, an agenda for the workshop and information about the pending license applications will be posted on the Commission's web site under Hydro Licensing Status Workshop 2002. Anyone without access to the Commission's web site, or who have questions should contact Steve Kartalia at 202-502-6131, or e-mail stephen.kartalia@ferc.gov; or Susan O'Brien at 202-502-8449, or e-mail susan.obrien@ferc.gov.

Linwood A. Watson, Jr.,
Deputy Secretary.

[FR Doc. 02-26500 Filed 10-17-02; 8:45 am

BILLING CODE 6717-01-P